DEPARTMENT OF THE INTERIOR

Bureau of Land Management

Notice of Availability of the Hollister Draft Resource Management Plan and Draft Environmental Impact Statement

AGENCY: Bureau of Land Management, Hollister Field Office (California).

ACTION: Notice of Availability of the Hollister Draft Resource Management Plan and Draft Environmental Impact Statement.

SUMMARY: In accordance with the National Environmental Policy Act of 1969 and the Federal Land Policy and Management Act of 1976, the Bureau of Land Management (BLM) has prepared a Draft Resource Management Plan and Draft Environmental Impact Statement (RMP/EIS) for the Hollister Field Office.

DATES: Written comments on the Draft RMP/EIS will be accepted for 90 days following the date the Environmental Protection Agency publishes the Notice of Availability in the Federal Register. Future meetings or hearings and any other public involvement activities will be announced at least 15 days in advance through public notices, media news releases, and/or mailings.

ADDRESSES: You may submit comments at the public meetings or by any of the following methods:

• Web Site: http://www.ca.blm.gov/hollister (subject to change).

• Fax: (831) 630-5000.

• Mail: 20 Hamilton Court, Hollister, California 95023.

FOR FURTHER INFORMATION CONTACT: Sky Murphy, (831) 630-5039.

SUPPLEMENTARY INFORMATION: The planning area covers approximately 278,000 surface acres and approximately 443,806 acres of subsurface mineral estate within the following California counties: Alameda, Contra Costa, Monterey, San Benito, San Mateo, Santa Clara, Santa Cruz, and portions of Fresno, Merced, and San Joaquin counties. The Hollister RMP, when completed, will provide management guidance for use and protection of the resources managed by the Hollister Field Office. The Hollister Draft RMP/EIS has been developed through a collaborative planning process and considers four alternatives. The primary issues addressed include: Recreation; protection of sensitive natural and cultural resources, livestock grazing; guidance for energy and mineral development; land tenure adjustments; and other planning issues raised during the scoping process.

The Draft RMP/EIS also includes consideration of the designation of Areas of Critical Environmental Concern (ACECs). The preferred alternative includes the following ACECs: Panoche-Coalinga ACEC—29,604 acres (existing); Panoche-Coalinga ACEC Expansion—40,514 acres (proposed); Joaquin Rocks ACEC/RNA—7,327 acres (proposed); Fort Ord Public Lands ACEC—approximately 15,200 acres (proposed); and Santa Cruz Coast Dairies ACEC—approximately 6,770 acres (proposed). Two additional ACECs, Joaquin Ridge ACEC—19,215 acres and Panoche-Coalinga ACEC—42,123 acres, were considered but not included in the preferred alternative. Use of public lands within these ACECs would vary, depending on the resources and/or values identified (see Chapter 2 of the Draft RMP/EIS), but would likely include limitations on motorized-vehicle use and other surface disturbing activities.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. CD and paper copies of the Hollister Draft RMP/EIS are available at the Hollister Field Office at the above address; CD copies are available at the California BLM State Office, 2800 Cottage Way, Sacramento, California 95825.

Robert Beehler,
Hollister Field Office Manager.

[FR Doc. 05-20618 Filed 10-13-05; 8:45 am]

BILLING CODE 4310-40-P